DEPARTMENT OF TRANSPORTATION

Coast Guard

33 CFR Part 165

[CGD01-00-004]

RIN 2115-AA97

Safety Zone: New York Harbor, Western Long Island Sound, East and Hudson Rivers Fireworks

AGENCY: Coast Guard, DOT.

ACTION: Final rule.

SUMMARY: The Coast Guard is establishing 19 permanent safety zones for fireworks displays located on New York Harbor, western Long Island Sound, the East River, and the Hudson River. This action is necessary to provide for the safety of life on navigable waters during the events. This action establishes permanent exclusion areas that are only active prior to the start of the fireworks display until shortly after the fireworks display is completed, and is intended to restrict vessel traffic in a portion of New York Harbor, western Long Island Sound, the East and Hudson Rivers.

DATES: This rule is effective August 14, 2000.

ADDRESSES: Comments and material received from the public, as well as documents indicated in this preamble as being available in the docket, are part of docket (CGD01-00-004) and are available for inspection or copying at room 205, Coast Guard Activities New York, 212 Coast Guard Drive, Staten Island, NY 10305, between 8 a.m. and 3 p.m., Monday through Friday, except Federal holidays.

FOR FURTHER INFORMATION CONTACT: Lieutenant M. Day, Waterways Oversight Branch, Coast Guard Activities New York (718) 354-4012.

SUPPLEMENTARY INFORMATION:

Regulatory Information

On May 11, 2000, we published a notice of proposed rulemaking (NPRM) entitled Safety Zone: New York Harbor, Western Long Island Sound, East and Hudson Rivers Fireworks in the Federal Register (65 FR 30376). We received no letters commenting on the proposed rule. No public hearing was requested, and none was held.

Background and Purpose

The Coast Guard is establishing 19 permanent safety zones that will be activated for fireworks displays occurring throughout the year that are not held on an annual basis but are normally held in one of these 19 locations. The 19 locations are Coney Island in New York Harbor; Elizabeth, New Jersey on the Arthur Kill; Peningo Neck, Satans Toe, Larchmont, Manursing Island, Glen Island, Twin Island, Davenport Neck, and two locations in Hempstead Harbor in western Long Island Sound; Pier 14, Manhattan, and Wards Island in the East River; The Battery, Battery Park City, and Pier 90, Manhattan; Yonkers, Hastings-on-Hudson, and Pier D, Jersey City in the Hudson River. The Coast Guard received 30 applications for fireworks displays in these areas from 1998 to 1999. In 1997, the Coast Guard received 10 applications for fireworks displays in these locations. In the past, temporary safety zones were established with limited notice for preparation by the U.S. Coast Guard and limited opportunity for public comment. Establishing permanent safety zones by notice and comment rulemaking gave the public the opportunity to comment on the proposed zone locations, size, and length of time the zones will be active. The Coast Guard has received no prior notice of any impact caused by the previous events. Marine traffic will still be able to transit around the safety zones. Additionally, vessels will not be precluded from mooring at or getting underway from commercial or recreational piers in the vicinity of the safety zones.

This rule revises 33 CFR 165.168, which was published in the Federal Register on January 7, 2000 (65 FR 1065). It adds 19 permanent safety zones to the five existing ones in 33 CFR 165.168, and it lists all 24 by the body of water in which they are located.

The sizes of these safety zones were determined using National Fire Protection Association and New York City Fire Department standards for 6-12 inch mortars fired from a barge or shore, combined with the Coast Guard's knowledge of tide and current conditions in these areas. Barge and land site locations, and mortar sizes were adjusted to try and ensure the safety zone locations would not interfere with any known marinas or piers. The 19 safety zones are:

New York Harbor

The safety zone in Lower New York Bay includes all waters of Lower New York Bay within a 250-yard radius of the fireworks land shoot located on the south end of Steeplechase Pier, Coney Island, in approximate position 40°34′11″ N 073°59′00″ W (NAD 1983). The safety zone prevents vessels from transiting a portion of Lower New York Bay, and is needed to protect boaters from the hazards associated with fireworks launched from shore in the area. Marine traffic will still be able to transit through Lower New York Bay during the event. Additionally, Steeplechase Pier does not accept marine traffic and there are no commercial or recreational piers in the vicinity of the safety zone. The Captain of the Port does not anticipate any negative impact on vessel traffic due to this safety zone.

The safety zone on the Arthur Kill includes all waters of the Arthur Kill within a 150-yard radius of the fireworks land shoot located in Elizabeth, New Jersey, in approximate position 40°38-50-- N 074°10-58-- W (NAD 1983), about 675 yards west of Arthur Kill Channel Buoy 20 (LLNR 36780). The safety zone prevents vessels from transiting a portion of the Arthur Kill, and is needed to protect boaters from the hazards associated with fireworks launched from shore in the area. Marine traffic will still be able to transit through the southern 90 yards of the Arthur Kill opposite the display site in Elizabeth, New Jersey during the event. Additionally, vessels will not be precluded from mooring at or getting underway from any piers in the vicinity of the safety zone. The Captain of the Port does not anticipate any negative impact on vessel traffic due to this safety zone.

Western Long Island Sound

The safety zone at Peningo Neck includes all waters of western Long Island Sound within a 300-yard radius of the fireworks barge in approximate position 40°56′21″ N 073°41′23″ W (NAD 1983), about 525 yards east of Milton Point, Peningo Neck. The safety zone prevents vessels from transiting a portion of western Long Island Sound and is needed to protect boaters from the hazards associated with fireworks launched from a barge in the area. Marine traffic will still be able to transit through western Long Island Sound during the event. Additionally, vessels will not be precluded from mooring at or getting underway from any piers in the vicinity of the safety zone. The Captain of the Port does not anticipate any negative impact on vessel traffic due to this safety zone.

The safety zone east of Satans Toe includes all waters of western Long Island Sound within a 360-yard radius of the fireworks barge in approximate position 40°55′21″ N 073°43′41″ W (NAD 1983), about 635 yards northeast of Larchmont Harbor (East Entrance) Light 2 (LLNR 25720). The safety zone prevents vessels from transiting a portion of western Long Island Sound and is needed to protect boaters from the hazards associated with fireworks launched from a barge in the area. Marine traffic will still be able to transit through western Long Island Sound during the event. Additionally, vessels will not be precluded from mooring at or getting underway from any piers in the vicinity of the safety zone. The Captain of the Port does not anticipate any negative impact on vessel traffic due to this safety zone.

The safety zone off Larchmont, west of the entrance to Horseshoe Harbor includes all waters of western Long Island Sound within a 240-yard radius of the fireworks barge in approximate position 40°54′45″ N 073°44′55″ W (NAD 1983), about 450 yards southwest of the entrance to Horseshoe Harbor. The safety zone prevents vessels from transiting a portion of western Long Island Sound and is needed to protect boaters from the hazards associated with fireworks launched from a barge in the area. Marine traffic will still be able to transit through western Long Island Sound during the event. Additionally, vessels will not be precluded from mooring at or getting underway from any piers in the vicinity of the safety zone. The Captain of the Port does not anticipate any negative impact on vessel traffic due to this safety zone.

The safety zone south of Manursing Island includes all waters of western Long Island Sound within a 360-yard radius of the fireworks barge in approximate position 40°57′47″ N 073°40′06″ W (NAD 1983), about 380 yards north of Rye Beach Transport Rock Buoy 2 (LLNR 25570). The safety zone prevents vessels from transiting a portion of western Long Island Sound and is needed to protect boaters from the hazards associated with fireworks launched from a barge in the area. Marine traffic will still be able to transit through western Long Island Sound during the event. Additionally, vessels will not be precluded from mooring at or getting underway from any piers in the vicinity of the safety zone. The Captain of the Port does not anticipate any negative impact on vessel traffic due to this safety zone.

The safety zone east of Glen Island includes all waters of western Long Island Sound within a 240-yard radius of the fireworks barge in approximate position 40°53′12″ N 073°46′33″ W (NAD 1983), about 350 yards east of the northeast corner of Glen Island. The safety zone prevents vessels from transiting a portion of western Long Island Sound and is needed to protect boaters from the hazards associated with fireworks launched from a barge in the area. Marine traffic will still be able to transit through western Long Island Sound during the event. Additionally, vessels will not be precluded from mooring at or getting underway from commercial or recreational piers in the vicinity of the safety zone. The Captain of the Port does not anticipate any negative impact on vessel traffic due to this safety zone.

The safety zone around the southeast corner of Twin Island includes all waters of western Long Island Sound within a 200-yard radius of the fireworks land shoot in approximate position 40°52′10″ N 073°47′07″ W (NAD 1983), at the east end of Orchard Beach. The safety zone prevents vessels from transiting a portion of western Long Island Sound and is needed to protect boaters from the hazards associated with fireworks launched from shore in the area. Marine traffic will still be able to transit through western Long Island Sound during the event. Additionally, vessels will not be precluded from mooring at or getting underway from any piers in the vicinity of the safety zone. The Captain of the Port does not anticipate any negative impact on vessel traffic due to this safety zone.

The safety zone off Davenport Neck includes all waters of western Long Island Sound within a 360-yard radius of the fireworks barge in Federal Anchorage No. 1-A, in approximate position 40°53′46″ N 073°46′04″ W (NAD 1983), about 360 yards northwest of Emerald Rock Buoy (LLNR 25810). The safety zone prevents vessels from transiting a portion of Federal Anchorage No. 1-A and is needed to protect boaters from the hazards associated with fireworks launched from a barge in the area. Marine traffic will be able to anchor in the unaffected northern and southern portions of Federal Anchorage No. 1-A. Federal Anchorage No. 1-B, to the north, and Federal Anchorage No. 1, to the south, are also available for vessel use. Marine traffic will still be able to transit through western Long Island Sound during the event. Additionally, vessels will not be precluded from mooring at or getting underway from any piers in the vicinity of the safety zone. The Captain of the Port does not anticipate any negative impact on vessel traffic due to this safety zone.

The safety zone in northern Hempstead Harbor, Long Island Sound, includes all waters of Hempstead Harbor within a 360-yard radius of the fireworks barge in approximate position 40°51′58″ N 073°39′34″ W (NAD 1983), about 500 yards northeast of Glen Cove Breakwater Light 5 (LLNR 27065). The safety zone prevents vessels from transiting a portion of Hempstead Harbor and is needed to protect boaters from the hazards associated with fireworks launched from a barge in the area. Marine traffic will still be able to transit through Hempstead Harbor during the event. Additionally, vessels will not be precluded from mooring at or getting underway from any piers in the vicinity of the safety zone. The Captain of the Port does not anticipate any negative impact on vessel traffic due to this safety zone.

The safety zone in southern Hempstead Harbor, Long Island Sound, includes all waters of Hempstead Harbor within a 180-yard radius of the fireworks barge in approximate position 40°49′50″ N 073°39′12″ W (NAD 1983), about 190 yards north of Bar Beach. The safety zone prevents vessels from transiting a portion of Hempstead Harbor and is needed to protect boaters from the hazards associated with fireworks launched from a barge in the area. Marine traffic will still be able to transit through Hempstead Harbor during the event. Additionally, vessels will not be precluded from mooring at or getting underway from any piers in the vicinity of the safety zone. The Captain of the Port does not anticipate any negative impact on vessel traffic due to this safety zone.

East River

The safety zone southeast of Pier 14, Manhattan, includes all waters of the East River within a 180-yard radius of the fireworks barge in approximate position 40°42′07.5″ N 074°00′06″ W (NAD 1983), about 250 yards southeast of Pier 14, Manhattan. The safety zone prevents vessels from transiting a portion of the East River and is needed to protect boaters from the hazards associated with fireworks launched from a barge in the area. Marine traffic will be able to transit through the eastern 100 yards and the western 70 yards of the 530-yard wide East River during the event. Additionally, vessels will not be precluded from mooring at or getting underway from any piers in the vicinity of the safety zone. The Captain of the Port does not anticipate any negative impact on vessel traffic due to this safety zone.

The safety zone at Wards Island includes all waters of the East River within a 150-yard radius of the fireworks land shoot in approximate position 40°46′55.5″ N 073°55′33″ W (NAD 1983), about 200 yards northeast of the Triborough Bridge. The safety zone prevents vessels from transiting a portion of the East River and is needed to protect boaters from the hazards associated with fireworks launched from shore in the area. Marine traffic will still be able to transit through the eastern 150 yards of the 300-yard wide East River during the event. Additionally, vessels will not be precluded from mooring at or getting underway from any piers in the vicinity of the safety zone. The Captain of the Port does not anticipate any negative impact on vessel traffic due to this safety zone.

Hudson River

The safety zone south of The Battery, Manhattan, includes all waters of the Hudson River and Anchorage Channel within a 360-yard radius of the fireworks barge in approximate position 40°42′00″ N 074°01:17″ W (NAD 1983), about 500 yards south of The Battery. The safety zone prevents vessels from transiting a portion of the Hudson River and Anchorage Channel and is needed to protect boaters from the hazards associated with fireworks launched from a barge in the area. Marine traffic will still be able to transit through the western 675 yards of the 1500-yard wide Hudson River and through the eastern 350 yards of the 1200-yard wide Anchorage Channel during the event. Additionally, vessels will not be precluded from mooring at or getting underway from any piers in the vicinity of the safety zone. The Captain of the Port does not anticipate any negative impact on vessel traffic due to this safety zone.

The safety zone southwest of North Cove Yacht Harbor, Manhattan, includes all waters of the Hudson River within a 360-yard radius of the fireworks barge in approximate position 40°42′39″ N 074°01′21″ W (NAD 1983), about 480 yards southwest of North Cove Yacht Harbor. The safety zone prevents vessels from transiting a portion of the Hudson River and is needed to protect boaters from the hazards associated with fireworks launched from a barge in the area. Marine traffic will still be able to transit through the western 470 yards of the 1215-yard wide Hudson River during the event. Additionally, vessels will not be precluded from mooring at or getting underway from any piers in the vicinity of the safety zone. The Captain of the Port does not anticipate any negative impact on vessel traffic due to this safety zone.

The safety zone west of Pier 90, Manhattan, includes all waters of the Hudson River within a 300-yard radius of the fireworks barge in approximate position 40°46′12″ N 074°00′18″ W (NAD 1983), about 425 yards west of the west end of Pier 90, Manhattan. The safety zone prevents vessels from transiting a portion of the Hudson River and is needed to protect boaters from the hazards associated with fireworks launched from a barge in the area. Marine traffic will still be able to transit through the western 175 yards and the eastern 140 yards of the 915-yard wide Hudson River during the event. Additionally, vessels will not be precluded from mooring at or getting underway from any piers in the vicinity of the safety zone. The Captain of the Port does not anticipate any negative impact on vessel traffic due to this safety zone.

The safety zone west of Yonkers includes all waters of the Hudson River within a 360-yard radius of the fireworks barge in approximate position 40°56′14.5″ N 073°54′33″ W (NAD 1983), about 475 yards northwest of Yonkers Municipal Pier. The safety zone prevents vessels from transiting a portion of the Hudson River and is needed to protect boaters from the hazards associated with fireworks launched from a barge in the area. Marine traffic will still be able to transit through the western 715 yards and eastern 115 yards of the 1550 yard-wide Hudson River during the event. Additionally, vessels will not be precluded from mooring at or getting underway from any piers in the vicinity of the safety zone. The Captain of the Port does not anticipate any negative impact on vessel traffic due to this safety zone.

The safety zone west of Hastings-on-Hudson includes all waters of the Hudson River within a 360-yard radius of the fireworks barge in approximate position 40°59′44.5″ N 073°53′28″ W (NAD 1983), about 425 yards west of Hastings-on-Hudson, NY. The safety zone prevents vessels from transiting a portion of the Hudson River and is needed to protect boaters from the hazards associated with fireworks launched from a barge in the area. Marine traffic will still be able to transit through the western 675 yards and eastern 60 yards of the 1315 yard-wide Hudson River during the event. Additionally, vessels will not be precluded from mooring at or getting underway from any piers in the vicinity of the safety zone. The Captain of the Port does not anticipate any negative impact on vessel traffic due to this safety zone.

The safety zone southeast of Pier D, Jersey City, includes all waters of the Hudson River within a 360-yard radius of the fireworks barge in approximate position 40°42′57.5″ N 074°01′34″ W (NAD 1983), about 375 yards southeast of Pier D, Jersey City. The safety zone prevents vessels from transiting a portion of the Hudson River and is needed to protect boaters from the hazards associated with fireworks launched from a barge in the area. Marine traffic will still be able to transit through the eastern 440 yards of the 1120-yard wide Hudson River during the event. Additionally, Pier D does not accept marine traffic and vessels will not be precluded from mooring at or getting underway from any piers in the vicinity of the safety zone. The Captain of the Port does not anticipate any negative impact on vessel traffic due to this safety zone.

The actual dates that these safety zones will be activated are not known by the Coast Guard at this time. Coast Guard Activities New York will give notice of the activation of each safety zone by all appropriate means to provide the widest publicity among the affected segments of the public. This will include publication in the Local Notice to Mariners. Marine information broadcasts will also be made for these events beginning 24 to 48 hours before the event is scheduled to begin. Facsimile broadcasts may also be made to notify the public. The Coast Guard expects that the notice of the activation of each permanent safety zone in this rulemaking will normally be made between thirty and fourteen days before the zone is actually activated. Fireworks barges used in the locations stated in this rulemaking will also have a sign on the port and starboard side of the barge labeled “FIREWORKS BARGE”. This will provide on-scene notice that the safety zone the fireworks barge is located in is or will be activated on that day. This sign will consist of 10″ high by 1.5″ wide red lettering on a white background. Displays launched from shore sites will have a sign labeled “FIREWORKS SITE” with the same size requirements. There will also be a Coast Guard patrol vessel on scene 30 minutes before the display is scheduled to start until 15 minutes after its completion to enforce each safety zone.

The effective period for each safety zone is from 8 p.m. (e.s.t.) to 1 a.m. (e.s.t.). However, vessels may enter, remain in, or transit through these safety zones during this time frame if authorized by the Captain of the Port New York, or designated Coast Guard patrol personnel on scene, as provided for in 33 CFR 165.23. Generally, blanket permission to enter, remain in, or transit through these safety zones will be given except for the 45-minute period that a Coast Guard patrol vessel is present.

Discussion of Comments and Changes

We received no letters commenting on the proposed rule, but we did make one change to it. The proposed safety zone at Hunters Point on the East River (§ 165.168(c)(2)) is being removed. The Coast Guard is planning to establish a safety zone at Hunters Point in a future rulemaking. The East River safety zones in § 165.168(c) are renumbered because of this. Figure 3 is also revised to show this change.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this rule to be so minimal that a full Regulatory Evaluation under paragraph 10e of the regulatory policies and procedures of DOT is unnecessary.

This finding is based on the minimal time that vessels will be restricted from the zones, and all of the zones are in areas where the Coast Guard expects insignificant adverse impact on all mariners from the zones' activation. Vessels may also still transit through Lower New York Bay, the Arthur Kill, western Long Island Sound, the East and Hudson Rivers, and Anchorage Channel during these events. Vessels will not be precluded from getting underway, or mooring at, any piers or marinas currently located in the vicinity of the safety zones. Advance notifications will also be made to the local maritime community by the Local Notice to Mariners and marine information broadcasts. Facsimile broadcasts may also be made to notify the public. Additionally, the Coast Guard anticipates that there will only be 20-25 total activations of these safety zones per year.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: the owners or operators of vessels intending to transit or anchor in a portion of the Port of New York/New Jersey and western Long Island Sound during the times these zones are activated.

These safety zones will not have a significant economic impact on a substantial number of small entities for the following reasons: Vessel traffic can transit around all 19 safety zones. Vessels will not be precluded from getting underway, or mooring at, any piers or marinas currently located in the vicinity of the safety zones. Before the effective period, we will issue maritime advisories widely available to users of the Port of New York/New Jersey by local notice to mariners and marine information broadcasts. Facsimile broadcasts may also be made.

Assistance for Small Entities

Under section 213(a) of the Small Business Regulatory Enforcement Fairness Act of 1996 (Pub. L. 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520.).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

We considered the environmental impact of this rule and concluded that, under figure 2-1, paragraph 34(g), of Commandant Instruction M16475.1C, this rule is categorically excluded from further environmental documentation. This rule fits paragraph 34(g) as it establishes 19 safety zones. A “Categorical Exclusion Determination” is available in the docket where indicated under ADDRESSES.

List of Subjects in 33 CFR Part 165

Harbors, Marine safety, Navigation (water), Reporting and recordkeeping requirements, Security measures, Waterways.

For the reasons discussed in the preamble, the Coast Guard amends 33 CFR Part 165 as follows:

PART 165—REGULATED NAVIGATION AREAS AND LIMITED ACCESS AREAS

1. The authority citation for Part 165 continues to read as follows:

Authority: 33 U.S.C. 1231; 50 U.S.C. 191; 33 CFR 1.05-1(g), 6.04-1, 6.04-6, 160.5; 49 CFR 1.46.

2. Revise § 165.168 to read as follows:

§ 165.168 Safety Zones: New York Harbor, Western Long Island Sound, East and Hudson Rivers Fireworks.

(a) New York Harbor. Figure 1 of this section displays the safety zone areas in paragraphs (a)(1) through (a)(6).

(1) Liberty Island Safety Zone: All waters of Upper New York Bay within a 360-yard radius of the fireworks barge in approximate position 40°41′16.5″ N 074°02′23″ W (NAD 1983), located in Federal Anchorage 20-C, about 360 yards east of Liberty Island.

(2) Ellis Island Safety Zone: All waters of Upper New York Bay within a 360-yard radius of the fireworks barge located between Federal Anchorages 20-A and 20-B, in approximate position 40°41′45″ N 074°02′09″ W (NAD 1983), about 365 yards east of Ellis Island.

(3) South Beach, Staten Island Safety Zone: All waters of Lower New York Bay within a 360-yard radius of the fireworks barge in approximate position 40°35′11″ N 074°03′42″ W (NAD 1983), about 350 yards east of South Beach, Staten Island.

(4) Raritan Bay Safety Zone: All waters of Raritan Bay in the vicinity of the Raritan River Cutoff and Ward Point Bend (West) within a 240-yard radius of the fireworks barge in approximate position 40°30′04″ N 074°15′35″ W (NAD 1983), about 240 yards east of Raritan River Cutoff Channel Buoy 2 (LLNR 36595).

(5) Coney Island Safety Zone: All waters of Lower New York Bay within a 250-yard radius of the fireworks land shoot located on the south end of Steeplechase Pier, Coney Island, in approximate position 40°34′11″ N 073°59′00″ W (NAD 1983).

(6) Arthur Kill, Elizabeth, New Jersey Safety Zone: All waters of the Arthur Kill within a 150-yard radius of the fireworks land shoot located in Elizabeth, New Jersey, in approximate position 40°38′50″ N 074°10′58″ W (NAD 1983), about 675 yards west of Arthur Kill Channel Buoy 20 (LLNR 36780).

(b) Western Long Island Sound. Figure 2 of this section displays the safety zone areas in paragraphs (b)(1) through (b)(9).

(1) Peningo Neck, Western Long Island Sound Safety Zone: All waters of western Long Island Sound within a 300-yard radius of the fireworks barge in approximate position 40°56′21″ N 073°41′23″ W (NAD 1983), about 525 yards east of Milton Point, Peningo Neck, New York.

(2) Satans Toe, Western Long Island Sound Safety Zone: All waters of western Long Island Sound within a 360-yard radius of the fireworks barge in approximate position 40°55′21″ N 073°43′41″ W (NAD 1983), about 635 yards northeast of Larchmont Harbor (East Entrance) Light 2 (LLNR 25720).

(3) Larchmont, Western Long Island Sound Safety Zone: All waters of western Long Island Sound within a 240-yard radius of the fireworks barge in approximate position 40°54′45″ N 073°44′55″ W (NAD 1983), about 450 yards southwest of the entrance to Horseshoe Harbor.

(4) Manursing Island, Western Long Island Sound Safety Zone: All waters of western Long Island Sound within a 360-yard radius of the fireworks barge in approximate position 40°57′47″ N 073°40′06″ W (NAD 1983), about 380 yards north of Rye Beach Transport Rock Buoy 2 (LLNR 25570).

(5) Glen Island, Western Long Island Sound Safety Zone: All waters of western Long Island Sound within a 240-yard radius of the fireworks barge in approximate position 40°53′12″ N 073°46′33″ W (NAD 1983), about 350 yards east of the northeast corner of Glen Island, New York.

(6) Twin Island, Western Long Island Sound Safety Zone: All waters of western Long Island Sound within a 200-yard radius of the fireworks land shoot in approximate position 40°52′10″ N 073°47′07″ W (NAD 1983), at the east end of Orchard Beach, New York.

(7) Davenport Neck, Western Long Island Sound Safety Zone: All waters of western Long Island Sound within a 360-yard radius of the fireworks barge in Federal Anchorage No. 1-A, in approximate position 40°53′46″ N 073°46′04″ W (NAD 1983), about 360 yards northwest of Emerald Rock Buoy (LLNR 25810).

(8) Glen Cove, Hempstead Harbor Safety Zone: All waters of Hempstead Harbor within a 360-yard radius of the fireworks barge in approximate position 40°51′58″ N 073°39′34″ W (NAD 1983), about 500 yards northeast of Glen Cove Breakwater Light 5 (LLNR 27065).

(9) Bar Beach, Hempstead Harbor Safety Zone: All waters of Hempstead Harbor within a 180-yard radius of the fireworks barge in approximate position 40°49′50″ N 073°39′12″ W (NAD 1983), about 190 yards north of Bar Beach, Hempstead Harbor, New York.

(c) East River. Figure 3 of this section displays the safety zone areas in paragraphs (c)(1) and (c)(2).

(1) Pier 14, East River Safety Zone: All waters of the East River within a 180-yard radius of the fireworks barge in approximate position 40°42′07.5″ N 074°00′06″ W (NAD 1983), about 250 yards southeast of Pier 14, Manhattan, New York.

(2) Wards Island, East River Safety Zone: All waters of the East River within a 150-yard radius of the fireworks land shoot in approximate position 40°46′55.5″ N 073°55′33″ W (NAD 1983), about 200 yards northeast of the Triborough Bridge.

(d) Hudson River. Figure 4 of this section displays the safety zone areas in paragraphs (d)(1) through (d)(7).

(1) Pier 60, Hudson River Safety Zone: All waters of the Hudson River within a 360-yard radius of the fireworks barge in approximate position 40°44′49″ N 074°01′02″ W (NAD 1983), about 500 yards west of Pier 60, Manhattan, New York.

(2) The Battery, Hudson River Safety Zone: All waters of the Hudson River and Anchorage Channel within a 360-yard radius of the fireworks barge in approximate position 40°42′00″ N 074°01′17″ W (NAD 1983), about 500 yards south of The Battery, Manhattan, New York.

(3) Battery Park City, Hudson River Safety Zone: All waters of the Hudson River within a 360-yard radius of the fireworks barge in approximate position 40°42′39″ N 074°01′21″ W (NAD 1983), about 480 yards southwest of North Cove Yacht Harbor, Manhattan, New York.

(4) Pier 90, Hudson River Safety Zone: All waters of the Hudson River within a 300-yard radius of the fireworks barge in approximate position 40°46′12″ N 074°00′18″ W (NAD 1983), about 425 yards west of the west end of Pier 90, Manhattan, New York.

(5) Yonkers, New York, Hudson River Safety Zone: All waters of the Hudson River within a 360-yard radius of the fireworks barge in approximate position 40°56′14.5″ N 073°54′33″ W (NAD 1983), about 475 yards northwest of the Yonkers Municipal Pier, New York.

(6) Hastings-on-Hudson, New York, Hudson River Safety Zone: All waters of the Hudson River within a 360-yard radius of the fireworks barge in approximate position 40°59′44.5″ N 073°53′28″ W (NAD 1983), about 425 yards west of Hastings-on-Hudson, New York.

(7) Pier D, Hudson River Safety Zone: All waters of the Hudson River within a 360-yard radius of the fireworks barge in approximate position 40°42′57.5″ N 074°01′34″ W (NAD 1983), about 375 yards southeast of Pier D, Jersey City, New Jersey.

(e) Notification. Coast Guard Activities New York will cause notice of the activation of these safety zones to be made by all appropriate means to effect the widest publicity among the affected segments of the public, including publication in the local notice to mariners, marine information broadcasts, and facsimile. Fireworks barges used in these locations will also have a sign on their port and starboard side labeled “FIREWORKS BARGE.” This sign will consist of 10″ high by 1.5″ wide red lettering on a white background. Fireworks launched from shore sites will display a sign labeled “FIREWORKS SITE” with the same dimensions.

(f) Effective Period. This section is effective from 8 p.m. (e.s.t.) to 1 a.m. (e.s.t.) each day a barge with a “FIREWORKS BARGE” sign on the port and starboard side is on-scene or a “FIREWORKS SITE” sign is posted in a location listed in paragraphs (a) through (d) of this section. Vessels may enter, remain in, or transit through these safety zones during this time frame if authorized by the Captain of the Port New York or designated Coast Guard patrol personnel on scene.

(g) Regulations. (1) The general regulations contained in 33 CFR 165.23 apply.

(2) All persons and vessels shall comply with the instructions of the Coast Guard Captain of the Port or the designated on-scene-patrol personnel. These personnel comprise commissioned, warrant, and petty officers of the Coast Guard. Upon being hailed by a U. S. Coast Guard vessel by siren, radio, flashing light, or other means, the operator of a vessel shall proceed as directed.

BILLING CODE 4910-15-C

Dated: June 27, 2000.
R.E. Bennis,
Captain, U.S. Coast Guard, Captain of the Port, New York.

[FR Doc. 00-17677 Filed 7-12-00; 8:45 am]

BILLING CODE 4910-15-P